DEPARTMENT OF AGRICULTURE

Forest Service

Allegheny National Forest, PA; Reserved and Outstanding Oil and Gas Design Criteria

Correction

In notice document E9-3862 beginning on page 8899 in the issue of Friday, February 27, 2009, make the following correction:

On page 8899, in the last line of the first column, “March 26, 2009” should read “March 30, 2009”.

[FR Doc. Z9-3862 Filed 3-9-08; 8:45 am]

BILLING CODE 1505-01-D